DEPARTMENT OF THE INTERIOR

Bureau of Land Management

[CA-310-0777-XG]

Notice of Public Meeting: Northwest California Resource Advisory Council

AGENCY: Bureau of Land Management, Interior.

ACTION: Notice of public meeting.

SUMMARY: In accordance with the Federal Land Policy and Management Act of 1976 (FLPMA), and the Federal Advisory Committee Act of 1972 (FACA), the U.S. Department of the Interior, Bureau of Land Management (BLM) Northwest California Resource Advisory Council will meet as indicated below.

DATES: The meeting will be held Wednesday and Thursday, March 7 and 8, 2007, in Ukiah, California. On March 7, the council will convene at 10 a.m. at the BLM Ukiah Field Office, 2550 North State St., Ukiah, and depart for a field tour of public lands at Cow Mountain. On March 8, the council convenes at 8 a.m. in the Conference Room of the Ukiah Field Office. The council will hear public comments at 11 a.m.

FOR FURTHER INFORMATION CONTACT: Rich Burns, BLM Ukiah Field Office manager, (707) 468-4000; or BLM Public Affairs Officer Joseph J. Fontana, (530) 252-5332.

SUPPLEMENTARY INFORMATION: The 12-member council advises the Secretary of the Interior, through the BLM, on a variety of planning and management issues associated with public land management in Northwest California. At this meeting, agenda topics include a proposal for RAC involvement in developing recreation area business plans, a report on Redding Field Office interest in acquiring Pacific Gas and Electric lands, management issues at the Stornetta Public Lands on the Mendocino Coast, and development of a new management plan for public lands on Cow Mountain in Lake and Mendocino counties. All meetings are open to the public. Members of the public may present written comments to the council. Each formal council meeting will have time allocated for public comments. Depending on the number of persons wishing to speak, and the time available, the time for individual comments may be limited. Members of the public are welcome on field tours, but they must provide their own transportation and lunch. Individuals who plan to attend and need special assistance, such as sign language interpretation and other reasonable accommodations, should contact the BLM as provided above.

Dated: January 22, 2007.
Joseph J. Fontana,
Public Affairs Officer.

[FR Doc. E7-1296 Filed 1-26-07; 8:45 am]

BILLING CODE 4310-40-P